DEPARTMENT OF COMMERCE

International Trade Administration

[A-570-504]

Petroleum Wax Candles From the People's Republic of China (PRC): Notice of Extension of Time Limit of Preliminary Results of Antidumping Duty Administrative Review

AGENCY: Import Administration, International Trade Administration, Department of Commerce.

EFFECTIVE DATE: April 18, 2002.

FOR FURTHER INFORMATION CONTACT: Mark Hoadley at (202) 482-0666 or Brett L. Royce at (202) 482-4106, AD/CVD Enforcement, Import Administration, International Trade Administration, U.S. Department of Commerce, 14th Street and Constitution Avenue, N.W., Washington D.C. 20230.

SUPPLEMENTARY INFORMATION:

The Applicable Statute

Unless otherwise indicated, all citations to the statute are references to the Tariff Act of 1930 (the Act), as amended. In addition, unless otherwise indicated, all citations to the Department's regulations are to the regulations, codified at 19 CFR part 351 (2001).

Background

On August 28, 1986, the Department of Commerce (the Department) published the antidumping duty order on petroleum wax candles from the PRC (51 FR 30686). On August 1, 2001, the Department published an opportunity to request an administrative review of the order (66 FR 39729). On August 31, 2001, the Department received a request from Dongguan Fay Candle Co., Ltd. to conduct an administrative review of the antidumping duty order on petroleum wax candles from the PRC. On October 1, 2001, the Department published a notice of initiation of this administrative review covering the period of August 1, 2000 through July 31, 2001 (66 FR 49924).

Extension of Time Limits for Preliminary Results

Pursuant to section 751(a)(3)(A) of the Act, the Department shall make a preliminary determination in an administrative review of an antidumping duty order within 245 days after the last day of the anniversary month of the date of publication of the order. The Act further provides, however, that the Department may extend that 245-day period to 365 days if it determines it is not practicable to complete the review within the foregoing time period.

Due to the complexities involved with this particular case, including the extensive number of products, the possible inclusion in reported sales of both in-scope and out-of-scope candles, and the fact that the respondent has not been reviewed before, we find that it is not practicable to issue preliminary results of review by the current deadline of May 3, 2002. Therefore, in accordance with section 751(a)(3)(A) of the Act, the Department is extending the time limit for the preliminary results by 120 days.

This extension results in the due date for the preliminary results falling on August 31, 2002, which is a Saturday. Therefore, the preliminary results will be due on the next business day, which is September 3, 2002, since September 2, 2002 is an official holiday. The final results continue to be due 120 days after the publication of the preliminary results.

Dated: April 12, 2002
Joseph A. Spetrini,
Deputy Assistant Secretary for Import Administration, Group III.

[FR Doc. 02-9508 Filed 4-17-02; 8:45 am]

BILLING CODE 3510-DS-S